DEPARTMENT OF ENERGY

Federal Energy Regulatory Commission

Combined Notice of Filings #1

Take notice that the Commission received the following exempt wholesale generator filings:

Docket Numbers: EG23-244-000.

Applicants: Bright Arrow Solar, LLC.

Description: Bright Arrow Solar, LLC submits Notice of Self-Certification of Exempt Wholesale Generator Status.

Filed Date: 8/3/23.

Accession Number: 20230803-5120.

Comment Date: 5 p.m. ET 8/24/23.

Docket Numbers: EG23-245-000.

Applicants: Montgomery Ranch Wind Farm, LLC.

Description: Montgomery Ranch Wind Farm, LLC submits Notice of Self-Certification of Exempt Wholesale Generator Status.

Filed Date: 8/3/23.

Accession Number: 20230803-5123.

Comment Date: 5 p.m. ET 8/24/23.

Take notice that the Commission received the following electric rate filings:

Docket Numbers: ER10-2042-047; ER10-1862-041; ER10-1865-018; ER10-1893-041; ER10-1934-041; ER10-1938-042; ER10-1942-039; ER10-2985-045; ER10-3049-046; ER10-3051-046; ER11-4369-026; ER16-2218-027; ER17-696-027.

Applicants: Calpine Energy Solutions, LLC, North American Power Business, LLC, North American Power and Gas, LLC, Champion Energy, LLC, Champion Energy Services, LLC, Champion Energy Marketing LLC, Calpine Construction Finance Co., L.P., Calpine Power America—CA, LLC, CES Marketing IX, LLC, CES Marketing X, LLC, South Point Energy Center, LLC, Power Contract Financing, L.L.C., Calpine Energy Services, L.P.

Description: Notice of Change in Status of Calpine Energy Services, L.P., et al.

Filed Date: 7/31/23.

Accession Number: 20230731-5288.

Comment Date: 5 p.m. ET 8/21/23.

Docket Numbers: ER10-2042-048.

Applicants: San Diego Gas & Electric Company.

Description: Notice of Change in Status of San Diego Gas & Electric Company.

Filed Date: 7/31/23.

Accession Number: 20230731-5289.

Comment Date: 5 p.m. ET 8/21/23.

Docket Numbers: ER10-2437-019; ER22-2246-001.

Applicants: BCE Los Alamitos, LLC, Arizona Public Service Company.

Description: Notice of Change in Status of Arizona Public Service Company, et al.

Filed Date: 7/31/23.

Accession Number: 20230731-5290.

Comment Date: 5 p.m. ET 8/21/23.

Docket Numbers: ER10-2502-011; ER10-2473-010; ER11-4436-009.

Applicants: Black Hills Power, Inc., Cheyenne Light, Fuel and Power Company, Black Hills Colorado Electric, LLC.

Description: Notice of Non-Material Change in Status of Black Hills Colorado Electric, LLC, et al.

Filed Date: 8/1/23.

Accession Number: 20230801-5223.

Comment Date: 5 p.m. ET 8/22/23.

Docket Numbers: ER10-2721-015.

Applicants: El Paso Electric Company.

Description: Notice of Non-Material Change in Status of El Paso Electric Company.

Filed Date: 7/31/23.

Accession Number: 20230731-5286.

Comment Date: 5 p.m. ET 8/21/23.

Docket Numbers: ER12-164-024; ER10-1882-010; ER10-1894-011; ER10-2563-008; ER18-2203-004; ER19-1402-003; ER20-2288-004; ER22-2046-003.

Applicants: Sapphire Sky Wind Energy LLC, Tatanka Ridge Wind, LLC, Coyote Ridge Wind, LLC, Upper Michigan Energy Resources Corporation, Wisconsin Electric Power Company, Wisconsin Public Service Corporation, Wisconsin River Power Company, Bishop Hill Energy III LLC.

Description: Notice of Non-Material Change in Status of Bishop Hill Energy III LLC, et al.

Filed Date: 7/31/23.

Accession Number: 20230731-5281.

Comment Date: 5 p.m. ET 8/21/23.

Docket Numbers: ER19-1217-004.

Applicants: Montana-Dakota Utilities Co.

Description: Notice of Non-Material Change in Status of Montana-Dakota Utilities Co.

Filed Date: 7/31/23.

Accession Number: 20230731-5285.

Comment Date: 5 p.m. ET 8/21/23.

Docket Numbers: ER19-2901-011; ER10-1852-081; ER10-1951-057; ER10-1966-021; ER11-4462-080; ER12-2225-020; ER12-2226-020; ER14-2138-017; ER17-838-054; ER18-2091-013; ER19-11-011; ER19-2389-011; ER20-1219-008; ER20-1417-009; ER20-1985-008; ER20-1988-009; ER23-489-004; ER23-493-004; ER23-2404-001.

Applicants: Bronco Plains Wind II, LLC, Thunder Wolf Energy Center, LLC, Neptune Energy Center, LLC, Northern Colorado Wind Energy Center II, LLC, Northern Colorado Wind Energy Center, LLC, Roundhouse Renewable Energy, LLC, Peetz Table Wind, LLC, Grazing Yak Solar, LLC, Peetz Logan Interconnect, LLC, Titan Solar, LLC, NextEra Energy Marketing, LLC, Limon Wind III, LLC, Limon Wind, LLC, Limon Wind II, LLC, NEPM II, LLC, Logan Wind Energy LLC, NextEra Energy Services Massachusetts, LLC, Florida Power & Light Company, Bronco Plains Wind, LLC.

Description: Notice of Change in Status of Bronco Plains Wind, LLC, et al.

Filed Date: 7/31/23.

Accession Number: 20230731-5283.

Comment Date: 5 p.m. ET 8/21/23.

Docket Numbers: ER21-1755-005; ER23-1642-002.

Applicants: NE Renewable Power, LLC, Hartree Partners, LP.

Description: Notice of Non-Material Change in Status of Hartree Partners, LP.

Filed Date: 7/31/23.

Accession Number: 20230731-5282.

Comment Date: 5 p.m. ET 8/21/23.

Docket Numbers: ER22-381-008; ER10-1781-004; ER19-2626-006; ER21-714-007; ER22-399-002.

Applicants: Meadow Lake Solar Park LLC, Indiana Crossroads Wind Farm LLC, Rosewater Wind Farm LLC, Northern Indiana Public Service Company, Dunns Bridge Solar Center, LLC.

Description: Notice of Non-Material Change in Status of Dunns Bridge Solar Center, LLC.

Filed Date: 7/31/23.

Accession Number: 20230731-5284.

Comment Date: 5 p.m. ET 8/21/23.

Docket Numbers: ER22-2925-001; ER22-2926-001.

Applicants: Jicarilla Storage 1 LLC, Jicarilla Solar 1 LLC.

Description: Notice of Change in Status of Jicarilla Solar 1 LLC, et al.

Filed Date: 7/31/23.

Accession Number: 20230731-5292.

Comment Date: 5 p.m. ET 8/21/23.

Docket Numbers: ER23-2556-000.

Applicants: EFS Parlin Holdings, LLC

Description: Request for Waiver, Expedited Consideration, and Informational Filing Regarding Potential Upstream Change in Control or Deactivation of EFS Parlin Holdings, LLC.

Filed Date: 8/2/23.

Accession Number: 20230802-5174.

Comment Date: 5 p.m. ET 8/23/23.

Docket Numbers: ER23-2557-000

Applicants: California Independent System Operator Corporation.

Description: § 205(d) Rate Filing: 2023-08-03 Tariff Clarification Filing—2023 to be effective 11/1/2023.

Filed Date: 8/3/23.

Accession Number: 20230803-5063.

Comment Date: 5 p.m. ET 8/24/23.

Docket Numbers: ER23-2558-000.

Applicants: Arizona Public Service Company.

Description: § 205(d) Rate Filing: ANPP Amendments to be effective 10/3/2023.

Filed Date: 8/3/23.

Accession Number: 20230803-5065.

Comment Date: 5 p.m. ET 8/24/23.

Docket Numbers: ER23-2559-000.

Applicants: Oxbow Hill Solar, LLC.

Description: Request of Oxbow Hill Solar, LLC For Limited, Prospective Tariff Waiver and Expedited Commission Action.

Filed Date: 8/3/23.

Accession Number: 20230803-5118.

Comment Date: 5 p.m. ET 8/24/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 3, 2023.
Debbie-Anne A. Reese,
Deputy Secretary.

[FR Doc. 2023-17068 Filed 8-8-23; 8:45 am]

BILLING CODE 6717-01-P